DEPARTMENT OF COMMERCE

International Trade Administration

[C-570-915]

Light-Walled Rectangular Pipe and Tube From the People's Republic of China: Final Results of the Expedited First Sunset Review of the Countervailing Duty Order

AGENCY: Import Administration, International Trade Administration, Department of Commerce.

DATES: Effective Date: August 8, 2013.

SUMMARY: On April 2, 2013, the Department of Commerce (Department) initiated the first sunset review of the countervailing duty order on light-walled rectangular pipe and tube from the People's Republic of China (PRC). The Department finds that revocation of the countervailing duty order would be likely to lead to continuation or recurrence of net countervailable subsidies at the rates shown below under “Final Results of Review.”

FOR FURTHER INFORMATION CONTACT: Jennifer Meek, AD/CVD Operations, Office 1, Import Administration, International Trade Administration, U.S. Department of Commerce, 14th Street and Constitution Avenue NW., Washington, DC 20230; telephone (202) 482-2778.

SUPPLEMENTARY INFORMATION:

Background

The countervailing duty order on light-walled rectangular pipe and tube from the PRC was published on August 5, 2008. See Notice of Countervailing Duty Order: Light-Walled Rectangular Pipe and Tube from the People's Republic of China, 73 FR 45405 (August 5, 2008).

On April 2, 2013, the Department initiated the first sunset review of this order, pursuant to section 751(c) of the Tariff Act of 1930, as amended (the Act). See Initiation of Five-Year (“Sunset”) Review, 78 FR 19647 (April 2, 2013). The Department received a notice of intent to participate from the following domestic parties: Bull Moose Tube Company; California Steel & Tube; Hannibal Industries; JMC Steel Group; Maruichi American Corporation; Searing Industries; Southland Tube; Vest, Inc.; and Western Tube & Conduit (collectively, domestic interested parties), within the deadline specified in 19 CFR 351.218(d)(1)(i).

The Department received an adequate substantive response from the domestic interested parties within the 30-day deadline specified in 19 CFR 351.218(d)(3)(i). The Department did not receive any other responses from interested parties or the Government of the PRC. As a result, pursuant to 19 CFR 351.218(e)(1)(ii)(C)(2), the Department is conducting an expedited (120-day) sunset review of the countervailing duty order on light-walled rectangular pipe and tube from the PRC.

Scope of the Order

The merchandise subject to the order is certain welded carbon quality light-walled steel pipe and tube, of rectangular (including square) cross section, having a wall thickness of less than 4 mm. The merchandise subject to the order is currently classifiable under items 7306.61.50.00 and 7306.61.70.60 of the Harmonized Tariff Schedule of the United States (HTSUS). Although the HTSUS subheadings are provided for convenience and customs purposes, the written description is dispositive.

A full description of the scope of the order is contained in the “Issues and Decision Memorandum for the Final Results of the Expedited Sunset Review of the Countervailing Duty Order on Light-Walled Rectangular Pipe and Tube from the People's Republic of China” from Christian Marsh, Deputy Assistant Secretary for Antidumping and Countervailing Duty Operations, to Paul Piquado, Assistant Secretary for Import Administration, dated concurrently with this determination and hereby adopted by this notice (Issues and Decision Memorandum).

The Issues and Decision Memorandum is a public document and is on file electronically via Import Administration's Antidumping and Countervailing Duty Centralized Electronic Service System (IA ACCESS). IA ACCESS is available to registered users at http://iaaccess.trade.gov and in the Central Records Unit, room 7046 of the main Department of Commerce building. In addition, a complete version of the Issues and Decision Memorandum can be accessed directly on the Internet at http://www.trade.gov/ia/. The signed Issues and Decision Memorandum and the electronic versions of the Issues and Decision Memorandum are identical in content.

Analysis of Comments Received

All issues raised in this review are addressed in the Issues and Decision Memorandum. The issues include the likelihood of continuation or recurrence of a countervailable subsidy and the net countervailable subsidy likely to prevail if the order was revoked.

Final Results of Review

Pursuant to sections 752(b)(1) and (3) of the Act, we determine that revocation of the countervailing duty order on light-walled rectangular pipe and tube from the PRC would be likely to lead to continuation or recurrence of countervailable subsidies at the following net countervailable subsidy rates:

Manufacturers/producer/exporter | Net Countervailable Subsidy (percent)
Zhangjiagang Zhongyuan Pipe-making Co., Ltd., Jiangsu Qiyuan Group Co., Ltd. | 15.28
Qingdao Xiangxing Steel Pipe Co., Ltd. | 200.58
Kunshan Lets Win Steel Machinery Co., Ltd. | 2.20

This notice also serves as the only reminder to parties subject to administrative protective order (APO) of their responsibility concerning the return or destruction of proprietary information disclosed under APO in accordance with 19 CFR 351.305. Timely notification of the return or destruction of APO materials or conversion to judicial protective orders is hereby requested. Failure to comply with the regulations and terms of an APO is a violation which is subject to sanction.

We are issuing and publishing the final results and notice in accordance with sections 751(c), 752(b), and 777(i)(1) of the Act.

Dated: July 30, 2013.
Paul Piquado,
Assistant Secretary for Import Administration.

[FR Doc. 2013-18969 Filed 8-7-13; 8:45 am]

BILLING CODE 3510-DS-P